DEPARTMENT OF HEALTH AND HUMAN SERVICES

Public Health Service

National Toxicology Program; National Institute of Environmental Health Sciences (NIEHS); National Institutes of Health (NIH) Notice of Additional Data and Analyses for the Assessment of the Current Validation Status of In Vitro Testing Methods for Identifying Potential Ocular Irritants

Summary

The National Toxicology Program (NTP) Interagency Center for the Evaluation of Toxicological Methods (NICEATM) recently published a notice in the Federal Register (Vol. 69, No. 212, pages 64081-2, November 3, 2004) announcing the availability of and requesting comments on Background Review Documents (BRDs) for four in vitro assays proposed for identifying potential ocular corrosives and severe irritants. Notice is hereby given of the availability of additional data and analyses for the Hen's Egg Test-Chorion Allantoic Membrane (HET-CAM) assay. Copies of the additional analyses and any other updates on information relevant to this meeting can be obtained on the ICCVAM/NICEATM Web site at http://iccvam.niehs.nih.gov or by contacting NICEATM [NIEHS, P.O. Box 12233, MD EC-17, Research Triangle Park, NC, 27709, (phone) (919) 541-3398, (fax) (919) 541-0947, (e-mail) iccvam@niehs.nih.gov].

Interested parties are invited to check the ICCVAM/NICEATM Web site periodically for additional information and/or analyses for this meeting.

Dated: November 23, 2004.
Samuel H. Wilson,
Deputy Director, National Institute of Environmental Health Sciences.

[FR Doc. 04-26594 Filed 12-2-04; 8:45 am]

BILLING CODE 4140-01-P